DEPARTMENT OF JUSTICE

Notice of Lodging of Consent Decree and Settlement Agreement Regarding Natural Resource Damage Claims Between the Debtors, the United States of America, the State of Indiana, the State of New York, and the St. Regis Mohawk Tribe

Notice is hereby given that on March 31, 2011, a proposed Consent Decree and Settlement Agreement (the “NRD Settlement Agreement”) in the bankruptcy matter, Motors Liquidation Corp, et al., f/k/a General Motors Corp., et al., Jointly Administered Case No. 09-50026 (REG), was lodged with the United States Bankruptcy Court for the Southern District of New York. The Parties to the NRD Settlement Agreement are debtors Motors Liquidation Corporation, formerly known as General Motors Corporation, Remediation and Liability Management Company, Inc., and Environmental Corporate Remediation Company, Inc. (collectively, “Old GM”); the United States of America; the State of Indiana; the State of New York; and the St. Regis Mohawk Tribe. The NRD Settlement Agreement resolves claims for natural resource damages and assessment costs of the United States Department of the Interior (“DOI”) and National Oceanic and Atmospheric Administration (“NOAA”), the State of Indiana, the State of New York, and the St. Regis Mohawk Tribe against Old GM under section 107 of the Comprehensive Environmental Response, Compensation, and Liability Act (“CERCLA”), 42 U.S.C. 9601-9675, with respect to the following sites:

1. The Kin-Buc Landfill Superfund Site in New Jersey;

2. The National Lead Industries Superfund Site in New Jersey;

3. The Diamond Alkali Superfund Site in New Jersey;

4. The General Motors Bedford Site in Indiana; and

5. The Central Foundry Division a/k/a Massena Superfund Site in New York.

Under the NRD Settlement Agreement, the claimants will have allowed general unsecured claims in the combined total amount of $11,571,413, in specified sub-amounts as to each site.

The Department of Justice will receive, for a period of thirty days from the date of this publication, comments relating to the NRD Settlement Agreement. Comments should be addressed to the Assistant Attorney General, Environment and Natural Resources Division, and either e-mailed to pubcomment-ees.enrd@usdoj.gov or mailed to P.O. Box 7611, U.S. Department of Justice, Washington, DC 20044-7611, and should refer to In re Motors Liquidation Corp., et al., D.J. Ref. 90-11-3-09754.

The NRD Settlement Agreement may be examined at the following locations: Office of the United States Attorney, 86 Chambers Street, 3rd Floor, New York, New York 10007; Environmental Contaminants/Federal Activities, U.S. Fish and Wildlife Service, 3817 Luker Road, Cortland, New York 13045; U.S. Fish and Wildlife Service, 620 S. Walker St., Bloomington, Indiana 47403; and National Oceanic and Atmospheric Administration, 290 Broadway, Suite 1831, New York, NY 10007. During the public comment period, the NRD Settlement Agreement may also be examined on the following Department of Justice Web site, http://www.usdoj.gov/enrd/Consent_Decrees.html. Copies of the NRD Settlement Agreement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $7.00 (25 cents per page reproduction cost) payable to the U.S. Treasury or, if by e-mail or fax, please forward a check in that amount to the Consent Decree Library at the stated address.

Maureen Katz,
Assistant Section Chief, Environmental Enforcement Section, Environment and Natural Resources Division.

[FR Doc. 2011-8619 Filed 4-11-11; 8:45 am]

BILLING CODE 4410-15-P